DEPARTMENT OF HEALTH AND HUMAN SERVICES

Administration for Children and Families

Proposed Information Collection Activity; Comment Request

Proposed Projects:

Title: Application Requirements for the Low Income Home Energy Assistance Program (LIHEAP) Model Plan.

OMB No.: 0970-0075.

Description: States, including the District of Columbia, tribes, tribal organizations, and U.S. territories applying for LIHEAP block grant funds must, prior to receiving federal funds, submit an annual application (Model Plan, ACF-122) that meets the LIHEAP statutory and regulatory requirements. In addition to the Model Plan, grantees are also required to complete the Mandatory Grant Application SF-424-Mandatory, which is the first section of the Model Plan.

The LIHEAP Model Plan is an electronic form and is submitted to the Administration for Children and Families (ACF), Office of Community Services (OCS) through the On-line Data Collection (OLDC) system within GrantSolutions, which is currently being used by all LIHEAP grantees to submit other required LIHEAP reporting forms. In order to reduce the reporting burden, all data entries from each grantee's prior year's submission of the Model Plan in OLDC is saved and re-populated (cloned) into the form for the following fiscal year's application. OCS seeks renewal of this form without any changes.

Respondents: State, the District of Columbia, U.S. Territories and Tribal governments.

Annual Burden Estimates
Instrument | Number of respondents | Number of responses per respondent | Average burden hours per response | Total burden hours
LIHEAP Detailed Model Plan | 210 | 1 | 0.50 | 105

Estimated Total Annual Burden Hours (all respondents): 105.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-06521 Filed 3-31-17; 8:45 am]

BILLING CODE 4184-01-P